DEPARTMENT OF ENERGY

10 CFR Part 431

[EERE-2018-BT-STD-0003]

Appliance Standards and Rulemaking Federal Advisory Committee: Notice of Cancellation of Public Meetings for the Variable Refrigerant Flow Multi-Split Air Conditioners and Heat Pumps Working Group To Negotiate a Notice of Proposed Rulemaking for Test Procedures and Energy Conservation Standards

AGENCY: Office of Energy Efficiency and Renewable Energy, U.S. Department of Energy.

ACTION: Notice of cancellation of public meetings and webinars.

SUMMARY: The U.S. Department of Energy (DOE or the Department) hereby cancels the remaining public meetings and webinars previously scheduled for the variable refrigerant flow multi-split air conditioners and heat pumps (VRF multi-split systems) working group. The Federal Advisory Committee Act (FACA) requires that agencies publish notice of an advisory committee meeting in the Federal Register. The working group has completed its work, and, therefore, no other meetings or webinars are necessary.

DATES: This document cancels the schedule of meetings announced in the Federal Register on October 24, 2019.

ADDRESSES: U.S. Department of Energy, Office of Building Technologies (EE-5B), 950 L'Enfant Plaza SW, Washington, DC 20024.

FOR FURTHER INFORMATION CONTACT: Mr. John Cymbalsky, U.S. Department of Energy, Office of Building Technologies (EE-5B), 950 L'Enfant Plaza SW, Washington, DC 20024. Telephone: (202) 287-1692. Email: ASRAC@ee.doe.gov.

SUPPLEMENTARY INFORMATION: On January 10, 2018, the Appliance Standards and Rulemaking Federal Advisory Committee (ASRAC) met and passed the recommendation to form a VRF multi-split systems working group to meet and discuss and, if possible, reach a consensus on proposed Federal test procedures and energy conservation standards for VRF multi-split systems. On April 11, 2018, DOE published a notice of intent to establish a working group for VRF multi-split systems to negotiate a notice of proposed rulemaking for test procedures and energy conservations standards. The notice also solicited nominations for membership to the working group. 83 FR 15514.

On August 22, 2019, DOE published a notice announcing public meetings for the VRF working group. 84 FR 43731. On October 24, 2019, DOE published another notice announcing new public meetings/webinars and modifying the dates for the previously scheduled public meetings/webinars for the VRF working group. 84 FR 56949.

On October 1, 2019, the VRF working group voted to approve a test procedure term sheet for VRF equipment. On November 5, 2019, the VRF working group voted to approve an energy conservation standards term sheet for VRF equipment. The working group has concluded its work, and, therefore, no further public meetings are necessary. Accordingly, this notice cancels the remaining public meetings/webinars for the VRF multi-split systems working group announced in the Federal Register on October 24, 2019. 84 FR 56949.

Public Participation

Docket

The docket is available for review at: https://www.regulations.gov/docket?D=EERE-2018-BT-STD-0003, including Federal Register notices, public meeting attendee lists and transcripts, comments, and other supporting documents/materials. All documents in the docket are listed in the http://www.regulations.gov index. However, not all documents listed in the index may be publically available, such as information that is exempt from public disclosure.

Signed in Washington, DC, on November 18, 2019.
Alexander N. Fitzsimmons
Acting Deputy Assistant Secretary for Energy Efficiency, Energy Efficiency and Renewable Energy.

[FR Doc. 2019-26019 Filed 12-3-19; 8:45 am]

BILLING CODE 6450-01-P